DEPARTMENT OF EDUCATION

[Docket No. ED-2016-ICCD-0101]

Agency Information Collection Activities; Submission to the Office of Management and Budget for Review and Approval; Comment Request; Common Core of Data (CCD) School-Level Finance Survey (SLFS) 2016-2018

AGENCY: National Center for Education Statistics (NCES), Department of Education (ED).

ACTION: Notice.

SUMMARY: In accordance with the Paperwork Reduction Act of 1995 (44 U.S.C. chapter 3501 et seq.), ED is proposing a new information collection.

DATES: Interested persons are invited to submit comments on or before December 16, 2016.

ADDRESSES: To access and review all the documents related to the information collection listed in this notice, please use http://www.regulations.gov by searching the Docket ID number ED-2016-ICCD-0101. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-343, Washington, DC 20202-4537.

FOR FURTHER INFORMATION CONTACT: For specific questions related to collection activities, please contact NCES Information Collections at NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Common Core of Data (CCD) School-Level Finance Survey (SLFS) 2016-2018.

OMB Control Number: 1850-NEW.

Type of Review: A new information collection.

Respondents/Affected Public: State, Local, and Tribal Governments.

Total Estimated Number of Annual Responses: 306.

Total Estimated Number of Annual Burden Hours: 4,938.

Abstract: In response to a growing demand, the National Center for Education Statistics (NCES), within the U.S. Department of Education, has developed and conducted a pilot, in 2015 and 2016 (OMB #1850-0803), of a new collection of finance data at the school level. The School-Level Finance Survey (SLFS) centrally collects school-level finance data form state education agencies (SEAs), and is an extension of two existing collections conducted by NCES, in collaboration with the U.S. Census Bureau, the School District Finance Survey (F-33) and the state-level National Public Education Financial Survey (NPEFS). The Every Student Succeeds Act (ESSA) signed into law on December 10, 2015, requires SEAs and local agencies to produce report cards for the 2017-18 school year that include per-pupil actual personnel and nonpersonnel expenditures of Federal, State, and local funds, disaggregated by source of funds, for each local educational agency (LEA) and each school in the State for the preceding fiscal year. SLFS collects 30 expenditure items, 12 of which are “personnel” and 18 “nonpersonnel” expenditures. The SLFS data items and definitions are consistent with those in the NPEFS and F-33 surveys. The first year of the pilot SLFS data collection (for fiscal year FY 2014) commenced on May 7, 2015, with 12 SEAs participating, and the second year of data collection (for FY 2015) commenced on April 4, 2016, with 19 SEAs participating. This request is to annually collect national SLFS data in 2017 through 2019, covering FY 2016 through 2018, and corresponding to school years 2015/16 through 2017/18.

Dated: November 10, 2016.
Stephanie Valentine,
Acting Director, Information Collection Clearance Division, Office of the Chief Privacy Officer, Office of Management.

[FR Doc. 2016-27491 Filed 11-15-16; 8:45 am]

BILLING CODE 4000-01-P